DEPARTMENT OF HEALTH AND HUMAN SERVICES

Administration on Aging

Agency Information Collection Activities: Submission for OMB Review Comment Request: Supplemental Form to the Financial Status Report for All AoA Title III Grantees

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by November 15, 2010.

ADDRESSES: Submit written comments on the collection of information by fax 202-395-6974 to the OMB Desk officer for AoA, Office of Information and Regulatory Affairs, OMB.

FOR FURTHER INFORMATION CONTACT: Heather Wiley, 202-357-3437.

SUPPLEMENTARY INFORMATION: In compliance with 44 U.S.C. 3507, AoA has submitted the following proposed collection of information to OMB for review and clearance. The Supplemental form to the Financial Status Report for all AoA Title III Grantees provides an understanding of how projects funded by the Older Americans Act are being administered by grantees, in conformance with legislative requirements, pertinent Federal regulations and other applicable instructions and guidelines issues by the Administration on Aging (AoA). A template may be found on the AoA Web site at http://www.aoa.gov/AoARoot/Grants/Reporting_Requirements/Formula_269.aspx. This information will be used for Federal oversight of Title III Projects. AoA estimates the burden of this collection of information as follows: 56 State Agencies on Aging respond semiannually, which should be an average burden of 1 hour per State agency per submission for a total of 112 hours.

Dated: October 7, 2010.
Kathy Greenlee,
Assistant Secretary for Aging.

[FR Doc. 2010-25826 Filed 10-13-10; 8:45 am]

BILLING CODE 4154-01-P